DEPARTMENT OF THE INTERIOR

National Park Service

[NPS-WASO-NAGPRA-NPS0035864; PPWOCRADN0-PCU00RP14.R50000]

Notice of Inventory Completion: Museum of the Rockies, Bozeman, MT

AGENCY: National Park Service, Interior.

ACTION: Notice.

SUMMARY: In accordance with the Native American Graves Protection and Repatriation Act (NAGPRA), Museum of the Rockies (MOR) has completed an inventory of human remains and associated funerary objects and has determined that there is a cultural affiliation between the human remains and associated funerary objects and Indian Tribes or Native Hawaiian organizations in this notice. The human remains and associated funerary objects were removed from Yellowstone, Big Horn, and Carbon Counties, MT.

DATES: Repatriation of the human remains and associated funerary objects in this notice may occur on or after June 20, 2023.

ADDRESSES: Melissa Dawn, Cultural History Registrar and Collections Manager, Museum of the Rockies, P.O. Box 172720, 600 W. Kagy Blvd., Bozeman, MT 59717, telephone (406) 994-2242, email melissa.dawn@montana.edu and Eric Metz, Paleontology Collections Manager—Registrar, Museum of the Rockies, P.O. Box 172720, 600 W. Kagy Blvd., Bozeman, MT 59717, telephone (406) 994-6578, email eric.metz@montana.edu.

SUPPLEMENTARY INFORMATION: This notice is published as part of the National Park Service's administrative responsibilities under NAGPRA. The determinations in this notice are the sole responsibility of Museum of the Rockies. The National Park Service is not responsible for the determinations in this notice. Additional information on the determinations in this notice, including the results of consultation, can be found in the inventory or related records held by Museum of the Rockies.

Description

In 1951, human remains representing, at minimum, one individual were removed from Yellowstone County, MT, by Joseph L. Cramer. In 1991, these human remains were donated to the Museum of the Rockies (MOR) by Joseph L. Cramer. The decedent, possibly a smallpox victim, had been placed in wide crack in the earth and burned. The human remains—skull fragments—possibly belong to a female). The 26 associated funerary objects are 24 glass trade beads, one copper trade button, and one copper wire (possibly an earring).

On April 3, 1938, 94 funerary objects were removed from a grave in small cave shelter five or six miles west of the Big Horn River and approximately six miles northwest of Hardin, in Big Horn County, MT, by Oscar T. Lewis. The grave had already been excavated and was presumed to belong to a Crow individual. In 1991, these funerary objects were donated to MOR by Joseph L. Cramer. No human remains are present. The 94 funerary objects are 24 glass trade beads, 10 copper trade beads, nine copper rolls (seven rolls and two parts), and 51 cowrie shell beads (38 complete shells and 13 small beads).

At an unknown date, 86 funerary objects were removed from Lodge Grass in Big Horn County, MT. These funerary objects were purchased by Joseph L. Cramer in 1955, and in 1991, Cramer donated them to MOR. Cramer surmised that these objects were found in a historic Crow burial by a Crow Indian, were removed and restrung, and then were sold to a filling station owner at Lodge Grass. No human remains are present. The 86 funerary objects are trade beads from a necklace.

Around 1953, 25 funerary objects were removed from Big Horn County, MT. These funerary objects were found by Art Becker of Billings, MT, eroding from a historic Crow Indian burial located at the head of Cottonwood Creek, a tributary of Hay Creek. In 1957, the funerary objects were gifted to Joseph L. Cramer, and in 1991, Cramer donated them to MOR. No human remains are present. The 25 funerary objects are brass, glass, shell, and bone beads.

Sometime during the 1940s-1950s, 87 funerary objects were removed from the Crow Indian Reservation in Big Horn County, MT. These funerary objects were found by Roy Marsh of Pryor, MT, eroding from Crow Indian burials and surface collected by him. On November 6, 1958, the funerary objects were gifted to Joseph L. Cramer, and in 1991, Cramer donated them to MOR. No human remains are present. The 87 funerary objects are glass and brass trade beads.

In 1951, human remains representing, at minimum, one individual were removed from a mesa in Carbon County, MT, by Joseph L. Cramer. The mesa, located 1.5 miles southeast of Joliet Town, is the divide between Rock Creek & Elbow Creek. In 1991, Cramer donated these human remains to MOR. The human remains—three skull fragments, one femur fragment, one metatarsal, six phalanges, and six teeth—belong to an individual of unknown age and sex. The 24 associated funerary objects are 22 glass and shell beads strung between two buttons.

In 1953, human remains representing, at minimum, one individual were removed from the south rim of a mesa in Carbon County, MT, by Joseph L. Cramer. This area, situated between Rock Creek & Elbow Creek, 1.5 miles southeast of Joliet Town, contains Crow crevice burials. In 1991, Cramer donated these human remains to MOR. The human remains—one metatarsal and one possibly burned bone—belong to an individual of unknown age and sex. The 69 associated funerary objects are glass and bone beads.

At an unknown date, nine funerary objects were removed from the base of the north rim of a small tributary 1¼ miles west of Pryor Creek channel, in Yellowstone County, MT, by Oscar T. Lewis. In 1991, these funerary objects were donated to MOR by Joseph L. Cramer. No human remains are present. The nine associated funerary objects are eight perforated elk teeth and one lot comprised of several hundred seed beads.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, and historical.

Determinations

Pursuant to NAGPRA and its implementing regulations, and after consultation with the appropriate Indian Tribes and Native Hawaiian organizations, Museum of the Rockies has determined that:

• The human remains described in this notice represent the physical remains of three individuals of Native American ancestry.

• The 420 objects described in this notice are reasonably believed to have been placed with or near individual human remains at the time of death or later as part of the death rite or ceremony.

• There is a relationship of shared group identity that can be reasonably traced between the human remains and associated funerary objects described in this notice and the Crow Tribe of Montana.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 20, 2023. If competing requests for repatriation are received, Museum of the Rockies must determine the most appropriate requestor prior to repatriation. Requests for joint repatriation of the human remains and associated funerary objects are considered a single request and not competing requests. Museum of the Rockies is responsible for sending a copy of this notice to the Indian Tribe identified in this notice.

Authority: Native American Graves Protection and Repatriation Act, 25 U.S.C. 3003, and the implementing regulations, 43 CFR 10.9, 10.10, and 10.14.

Dated: May 10, 2023.
Melanie O'Brien,
Manager, National NAGPRA Program.

[FR Doc. 2023-10559 Filed 5-17-23; 8:45 am]

BILLING CODE 4312-52-P